DEPARTMENT OF THE INTERIOR

Fish and Wildlife Service

Notice of Decision and Availability of Decision Documents on the Issuance of Permits for Incidental Take of Threatened and Endangered Species

AGENCY: Fish and Wildlife Service, Interior.

ACTION: Notice of decision.

SUMMARY: Between February 22, 2000, and February 16, 2001, Region 1 of the Fish and Wildlife Service (Service) approved 19 Habitat Conservation Plans (Plans) and issued 38 permits, transferred 2 permits, and amended 1 permit for the incidental take of threatened and endangered species pursuant to section 10(a)(1)(B) of the Endangered Species Act of 1973, as amended (Act). The Service also issued one Safe Harbor Agreement permit and one Candidate Conservation Agreement permit pursuant to section 10(a)(1)(A) of the Act. The Service also returned two permit applications and denied two permit applications.

Copies of the permits and associated decision documents are available upon request. Charges for copying (10 cents per page), plus shipping and handling may apply.

ADDRESSES: If you would like copies of any of the above documents, please contact the Fish and Wildlife Reference Service, 5430 Grosvenor Lane, Suite 110, Bethesda, Maryland 20814; telephone (800) 582-3421.

FOR FURTHER INFORMATION CONTACT: Heather Hollis, Fish and Wildlife Biologist, Fish and Wildlife Service, Portland, Oregon; telephone (503) 231-6241.

SUPPLEMENTARY INFORMATION: Section 9 of the Act and Federal regulation prohibit the take of wildlife species listed as endangered or threatened, respectively. Under the Act, the term “take” means to harass, harm, pursue, hunt, shoot, wound, kill, trap, capture, or collect listed wildlife, or to attempt to engage in any such conduct. The Service may, under limited circumstances, issue permits to authorize take that is incidental to, and not the purpose of, carrying out an otherwise lawful activity. Regulations governing permits for threatened and endangered species are found in 50 CFR 17.32 and 17.22.

Between February 22, 2000, and February 16, 2001, Region 1 of the Service issued the following permits for incidental take of threatened and endangered species, pursuant to section 10(a)(1)(B) and section 10(a)(1)(A) of the Act. We issued each permit after making the following determinations: the application had been submitted in good faith; all permit issuance criteria were met, including the requirement that granting the permit will not jeopardize the continued existence of listed species; and the permit was consistent with the Act and applicable regulations, including a thorough review of the environmental effects of the action and alternatives pursuant to the National Environmental Policy Act of 1969.

Copies of these permits, their accompanying Plans, and associated documents are available upon request. Decision documents for each permit include Findings and Recommendations; a Biological Opinion; and either a Finding of No Significant Impact, a Record of Decision, or an Environmental Action Statement. Associated documents may also include an Implementing Agreement, Assumption Agreement, Environmental Assessment, or Environmental Impact Statement, as applicable.

Approved plan/permit | Permit No. | Issuance date
Habitat Conservation Plans:
Tulare Irrigation District | TE022815-0 | 02/22/00
Weyerhaeuser Venture—Tributary Point | TE023095-0 | 03/31/00
Union Pacific Railroad | TE023739-0 | 04/04/00
City of Seattle, Cedar River Watershed | TE020907-0 | 04/21/00
MFS Globenet, Inc | TE021702-0 | 04/26/00
Pacific Bay Properties | TE024042-0 | 05/08/00
Van Daele | TE025437-0 | 05/24/00
Cornerstone Homes, Railroad Canyon | TE026003-0 | 06/08/00
Regency Realty, Prairie City Crossing | TE026908-0 | 06/15/00
California Department of Fish and Game | TE028154-0 | 06/23/00
Simpson Timber, NW Operations | TE032463-0 | 10/13/00
Plum Creek Native Fish | TE034609-0 | 10/24/00
High Desert Power Project | TE021703-0 | 10/26/00
Clark County and others | TE034927-0 | 11/01/00
City of Anaheim | TE036082-0 | 11/20/00
Westwood Tributary Point | TE034909-0 | 11/27/00
County of San Diego partial transfer | TE037338-0 | 12/22/00
Assessment District 161 (12 permits):
Metropolitan Water District | TE030490-0 | 12/04/00
OBED Properties, Inc. | TE030495-0 | 12/04/00
Parcel Five, Inc. | TE030497-0 | 12/04/00
Winchester 700, LLC | TE030499-0 | 12/04/00
Crown Meadows | TE030500-0 | 12/04/00
Hill County, S.A. Ltd. | TE030501-0 | 12/04/00
Murrieta Valley Unified School District | TE030502-0 | 12/04/00
Rancho California Water District | TE030503-0 | 12/04/00
SDI Communities, LLC | TE030504-0 | 12/04/00
Butterfield Development Company, Inc | TE030505-0 | 12/04/00
Pulte Home Corp. | TE030506-0 | 12/04/00
Buie Communities, LLC | TE303507-0 | 12/04/00
Granite Homes/Lake Elsinore | TE036074-0 | 12/29/00
Evergreen Nursery | TE023022-0 | 02/09/01
Ocean Trails:
Amendment and transfer | TE032423-1 | 01/06/01
City of Rancho Palos Verdes | TE037483-0 | 01/06/01
Reichel et al. (4 permits):
John J. Reichel | TE036465-0 | 02/16/01
Serenata, LLC | TE036467-0 | 02/16/01
Richard and Brigitta Steidl | TE036469-0 | 02/16/01
West San Bernardino County Water District | TE036470-0 | 02/16/01
Safe Harbor Agreements:
Bob and Peggy Mack | TE030508-0 | 09/18/00
Candidate Conservation Agreements:
Oregon Department of Fish and Wildlife | TE034590-0 | 10/11/00

In addition to issuing the above permits, the Service took action on four other applications that had been noticed in the Federal Register for public comment. The Service returned an application submitted by Weyerhaeuser Company for the Willamette Valley Plan because both the Service and Weyerhaeuser Company agreed to discontinue negotiations. The Service returned an application submitted by Boise Cascade Corporation for the Walker Creek Plan when the northern spotted owl that was the subject of the application died. The Service denied two permit applications submitted during this time frame: an application submitted by Mr. and Mrs. Seiber for the Wiley Creek Plan and an application submitted by Coast Range Conifers for the Beaver Tract Plan. In both cases, the applicant failed to meet all of the statutory permit issuance criteria under section 10(a)(2)(B)(ii) of the Act.

Dated: March 20, 2001.
Rowan W. Gould,
Deputy Regional Director, Fish and Wildlife Service, Region 1, Portland, Oregon.

[FR Doc. 01-7731 Filed 3-28-01; 8:45 am]

BILLING CODE 4310-55-P